NATIONAL FOUNDATION ON THE ARTS AND THE HUMANITIES

National Endowment for the Arts; Leadership Initiatives Advisory Panel

Pursuant to section 10(a)(2) of the Federal Advisory Committee Act (Pub. L. 92-463), as amended, notice is hereby given that an emergency teleconference meeting of the Leadership Initiatives Advisory Panel (Literature section) to the National Council on the Arts will be held on Thursday, July 1, 2004 from 1 p.m. to 1:30 p.m. e.d.t., from Room 722 at the Nancy Hanks Center, 1100 Pennsylvania Avenue, NW., Washington, DC 20506.

This meeting was scheduled on an emergency basis to address issues and review materials related to activities that must begin prior to the end of the fiscal year, and must be brought before a mid-July meeting of the National Council on the Arts, which is the last meeting of that body for this fiscal year. The meeting is for the purpose of Panel review, discussion, evaluation, and recommendations on financial assistance under the National Foundation on the Arts and the Humanities Act of 1965, as amended, including information given in confidence to the agency. In accordance with the determination of the Chairman of April 30, 2003, these sessions will be closed to the public pursuant to subsection (c)(6) of section 552b of title 5, United States Code.

Further information with reference to this meeting can be obtained from Ms. Kathy Plowitz-Worden, Office of Guidelines & Panel Operations, National Endowment for the Arts, Washington, DC 20506, or call 202/682-5691.

Dated: June 22, 2004.
Kathy Plowitz-Worden,
Panel Coordinator, Panel Operations, National Endowment for the Arts.

[FR Doc. 04-14447 Filed 6-23-04; 8:45 am]

BILLING CODE 7537-01-P